DEPARTMENT OF HEALTH AND HUMAN SERVICES

Centers for Disease Control and Prevention

Notice of Public Meetings/Opportunity for Public Comment: Interagency Committee on Smoking and Health (ICSH) Cessation Subcommittee

In accordance with section 10(a)(2) of the Federal Advisory Committee Act (Pub. L. 92-463), the Centers for Disease Control and Prevention (CDC) announces the following Subcommittee Meeting.

Agency: Department of Health and Human Services, Centers for Disease Control and Prevention's Office on Smoking and Health.

Date and Time: November 14, 2002, 8:30 a.m.-1 p.m.

Place: The Westin Westminster, 10600 Westminster Boulevard, Westminster, Colorado, 80020, Telephone 303/410-5000.

Date and Time: December 3, 2002, 8:30 a.m.-1:00 p.m.

Place: Hyatt Regency O'Hare at O'Hare International Airport, 9300 West Bryn Mawr Avenue, Rosemont, Illinois 60018, Telephone (847) 696-1234.

Purpose: The ICSH Cessation Subcommittee is convening two public meetings and soliciting comments to obtain input from key audiences who must work in a coordinated manner to successfully promote tobacco use cessation. Input should be focused on (1) opportunities to promote tobacco use cessation, (2) the strategies to overcome barriers and challenges faced by each group to ensure these objectives are implemented, and (3) the types of support DHHS could provide. Individuals and organizations are encouraged to comment in one or both of the following ways: (1) In writing, by submission through the mail, or e-mail; (2) in person, at two public meetings that will be convened in Denver, CO, and Chicago, IL. Comments will also be accepted during the public meetings.

Status: Open to the public, limited only by the space and time available. If you would like to attend the public meetings, you are encouraged to register by providing your name, title, organization name, address, and telephone number to Ms. Jessica Porras, (address below). If you would like to speak at the meetings, please notify Ms. Porras when you register. Written comments may be submitted until December 20, 2002.

To submit electronic comments, send via e-mail to jporras@cdc.gov. To submit comments by mail, send to: ICSH Cessation Subcommittee Public Comments (Attn: Ms. Jessica Porras), Office on Smoking and Health, 200 Independence Avenue, SW., Room 317B, Washington, DC 20201.

Matter to be Discussed: The ICSH Cessation Subcommittee is charged with making recommendations on how best to promote tobacco use cessation. The Subcommittee will develop a report, to be submitted by the Chair of the ICSH to the Secretary of HHS, which contains action steps for both a Secretary's initiative and public-private partnerships to achieve this outcome. Background documents on the ICSH and the ICSH Cessation Subcommittee are available at http://www.cdc.gov/tobacco/ICSH/index.htm. Submitted comments will be posted on the Internet at http://www.cdc.gov/tobacco/ICSH/index.htm.

For Further Information Contact: Ms. Jessica Porras, Office on Smoking and Health, 200 Independence Avenue, SW., Suite 317B, Washington, DC 20201, Telephone 202/205-8500 or facsimile 202/205-8313 or e-mail: jporras@cdc.gov.

The November 14, 2002 meeting notice is being published less than 15 days prior to the meeting due to difficulty of coordinating the attendance of members because of conflicting schedules.

The Director, Management Analysis and Services Office, has been delegated the authority to sign Federal Register notices pertaining to announcements of meetings and other committee management activities, for both the Centers for Disease Control and Prevention and the Agency for Toxic Substances and Disease Registry.

Dated: November 4, 2002.
John Burckhardt,
Acting Director, Management Analysis and Services Office Centers for Disease Control and Prevention.

[FR Doc. 02-28436 Filed 11-7-02; 8:45 am]

BILLING CODE 4163-18-P